DEPARTMENT OF ENERGY

Federal Energy Regulatory Commission

[Docket No. IC01-002-000, FERC Form 2]

Proposed Information Collection and Request for Comments

September 24, 2001.

AGENCY: Federal Energy Regulatory Commission, DOE.

ACTION: Notice of proposed information collection and request for comments.

SUMMARY: In compliance with the requirements of Section 3506(c)(2)(a) of the Paperwork Reduction Act of 1995 (Pub. L. No. 104-13), the Federal Energy Regulatory Commission (Commission) is soliciting public comment on the specific aspects of the information collection described below.

DATES: Consideration will be given to comments submitted on or before November 27, 2001.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-2425, and by e-mail at mike.miller@ferc.fed.us.

SUPPLEMENTARY INFORMATION: The information collected under the requirements of FERC Form 2 “Annual Report for Major Natural Gas Companies” (OMB No. 1902-0028) is used by the Commission to implement the statutory provisions of the Natural Gas Act (NGA) 15 U.S.C. 717. The FERC Form 2 is a financial and operating report for natural gas rate regulation for major pipeline owners. “Major” is defined as companies having combined gas sold for resale and gas transported or stored for a fee that exceeds 50 million Dth in each of the three previous calendar years. Under the Form 2, the Commission investigates, collects and records data and prescribes rules and regulations concerning accounts, records and memoranda as necessary to administer the NGA. The Commission is empowered to prescribe a system of accounts for jurisdictional gas pipelines and after notice and opportunity for hearing, may determine the accounts in which particular outlays and receipts will be entered, charged or credited.

Commission staff uses the data in the continuous review of the financial condition of jurisdictional companies, in various rate proceedings and in the Commission's audit program. FERC Form 2 data are also used to compute annual charges which are assessed against each jurisdictional natural gas pipeline and which are necessary to recover the Commission's annual costs.

The NGA mandates the collection of information needed by the Commission to perform its regulatory responsibilities in the setting of just and reasonable rates. The Commission could be held in violation of the NGA if the information was not collected.

The annual financial information filed with the Commission is a mandatory requirement submitted in a prescribed format which is filed electronically and on paper. The Commission implements these filing requirements in 18 CFR parts 158, 201, 260.1 and 385.2011.

Action: The Commission is requesting a three-year extension of the current expiration date, with no changes to the existing collection of data

Burden Statement: Public reporting burden for this collection is estimated as:

Number of respondents annually (1) | Number of responses per respondent (2) | Average burden hours per response (3) | Total annual burden hours (1)×(2)×(3)
57 | 1 | 1,485 | 84,645

Estimated cost burden to respondents: 86,130 hours/2,080 hours per year × $117,041 per year = $4,762,949. The cost per respondent is equal to $83,561.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond.

David P. Boergers,
Secretary.

[FR Doc. 01-24293 Filed 9-27-01; 8:45 am]

BILLING CODE 6717-01-P